NATIONAL CREDIT UNION ADMINISTRATION

Renewal of Agency Information Collection of a Previously Approved Collection; Request for Comments

AGENCY: National Credit Union Administration (NCUA).

ACTION: Notice of submission to the Office of Management and Budget.

SUMMARY: The NCUA has approved the publication of a proposal to extend for three years the NCUA Call Report (Form 5300), which is a currently approved information collection, for public comment. Revised instructions are included to improve clarity and accurate reporting. As required by the Paperwork Reduction Act of 1995, The NCUA is submitting the following extension of the currently approved information collection to the Office of Management and Budget (OMB) for renewal. The revised instructions are proposed to take effect with the September 30, 2025, report date.

DATES: Comments must be received on or before August 18, 2025.

ADDRESSES: Written comments and recommendations for the proposed information collection should be sent within 30 days of publication of this notice. You may submit written comments on the information collection by any of the following methods:

Federal Register Portal: https://www.federalregister.gov Find this information collection by searching for “National Credit Union Administration”, then selecting “Past 90 days”, and scrolling through the list of documents.

Regulations.gov: https://www.regulations.gov/search?filter=ncua Find this information collection by scrolling through the search results and looking for NCUA Call Report 2025-Q3.

Rulemakings and Proposals for Comment: https://ncua.gov/regulation-supervision/rulemakings-proposals-comment NCUA will post a link to the regulations.gov web page where you can submit a comment by selecting Comment.

Mail: 1775 Duke Street, Suite 5067, Alexandria, Virginia 22314.

Fax: 703-519-8161.

Email: PRAComments@NCUA.gov.

Instructions: All submissions must be identified by the OMB Control Number 3133-0004 or by Document Number (Please send comments by one method only).

FOR FURTHER INFORMATION CONTACT: Copies of the submission may be obtained by contacting Dacia Rogers at (703) 518-6547. You may also view the entire information collection request at www.reginfo.gov. Enhanced content is also available from the Notice on the Federal Register website (www.federalregister.gov). In addition, copies of the Call Report Form and Instructions can be obtained at the NCUA's website (https://ncua.gov/regulation-supervision/regulatory-reporting/cuonline).

SUPPLEMENTARY INFORMATION:

The NCUA is proposing a three-year extension of the NCUA Form 5300 Call Report with revised instructions.

OMB Number: 3133-0004.

Title: NCUA Form 5300 Call Report.

Type of Review: Extension of a currently approved collection.

Abstract: Sections 106 and 202 of the Federal Credit Union Act require federally insured credit unions (FICUs) to make financial and other reports to the NCUA. Section 741.5 describes the submission method FICUs must use to provide information to NCUA. NCUA Form 5300, Call Report, is used to file quarterly financial and statistical data through NCUA's online portal, CUOnline. The financial and statistical information provided by credit unions is essential to NCUA in carrying out its responsibility for supervising federal credit unions. This information facilitates NCUA monitoring of credit unions with share accounts insured by the National Credit Union Share Insurance Fund (Share Insurance Fund).

Form 5300 Call Report—Proposed Changes and Comments Received

In the April 23, 2025 ¹ notice, the NCUA did not propose any revisions to the Call Report Form. However, the NCUA proposed revisions to the 5300 Call Report Instructions to improve clarity and accurate reporting. The comment period for the April 2025 notice ended on June 23, 2025. The NCUA received three comment letters.

¹ 90 FR 17084.

One commenter suggested that the NCUA expand the information collected related to reciprocal deposits. The NCUA will consider expanding reciprocal deposit data the next time changes are made to the Call Report form.

One commenter suggested we improve the disclosure of changes by reducing the technical instructions to plain language or flowcharts. The NCUA will consider providing additional information on final changes when the instructions are released in early September.

One commenter requested to be notified if changes are made during the approval process and provided important insight into how the Call Report data is used. They did not have any objections to the proposed changes.

After considering the comments received the NCUA will proceed with the proposed changes to the Call Report Instructions.

Affected Public: Private sector: Not-for-profit institutions.

Respondents: All FICUs.

Estimated Number of Respondents: 4,411.

Estimated Number of Responses per Respondent: 4.

Estimated Total Annual Responses: 17,644.

Estimated Hours per Response: 4.

Estimated Total Annual Burden Hours: 70,576.

Reason for Change: The number of respondents decreased.

The proposed revisions to the Form 5300 instructions in this notice would not have a material impact on the existing burden estimates.

Legal Basis and Need for Collections: The Call Report Form 5300 information collections are mandatory under 12 U.S.C. 1756, 1766, and 1782. Except for select sensitive items, the Call Report Form 5300 is not given confidential treatment.

The data credit unions report on the Call Report is essential to the NCUA's supervision and regulation of federal credit unions. This information also facilitates the NCUA's monitoring of other credit unions with Share Insurance Fund coverage for share accounts.

Credit unions submit quarterly Call Report data to the NCUA. Call Report data serves a regulatory or public policy purpose by assisting the NCUA in fulfilling its mission of ensuring the safety and soundness of individual credit unions and the credit union system, protecting consumer financial rights, as well as agency-specific missions affecting federal and state-chartered credit unions, such as ensuring financial stability and administering share insurance.

There are no proposed changes to the Form 5300 Call Report. However, the NCUA is proposing revisions to the 5300 Call Report Instructions to improve clarity and accurate reporting. These revisions are captured on page two of the draft 5300 Call Report Instructions.

Request for Comments:

Comments submitted in response to this notice will be summarized and included in the request for Office of Management and Budget approval. All comments will become a matter of public record. The public is invited to submit comments concerning: (a) whether the proposed revisions to the instructions for the collection of information that are the subject of this notice are necessary for the proper performance of the function of the agency, including whether the information will have practical utility; (b) the accuracy of the agency's estimate of the burden of the collection of information as proposed to be revised, including the validity of the methodology and assumptions used; (c) ways to enhance the quality, utility, and clarity of the information to be collected; and (d) ways to minimize the burden of the collection of information on the respondents, including the use of automated collection techniques or other forms of information technology.

By the National Credit Union Administration Board.
Melane Conyers-Ausbrooks,
Secretary of the Board.

[FR Doc. 2025-13529 Filed 7-17-25; 8:45 am]

BILLING CODE 7535-01-P